NUCLEAR REGULATORY COMMISSION

[NRC-2019-0155]

Reactor Oversight Process Enhancement Initiative

AGENCY: Nuclear Regulatory Commission.

ACTION: Request for public comment.

SUMMARY: In an effort to revise and improve the Reactor Oversight Process (ROP), the U.S. Nuclear Regulatory Commission (NRC) staff recently proposed targeted, near-term ROP enhancements to the Commission, described in SECY-19-0067, “Recommendations for Enhancing the Reactor Oversight Process,” dated June 28, 2019. The NRC staff is currently evaluating possible long-term ROP enhancements in the following areas: the problem identification and resolution inspection program, the cross-cutting issues process, radiation protection inspection procedures, the inspection program for Independent Spent Fuel Storage Installations (ISFSI), and the Significance Determination Process (SDP), particularly for the emergency preparedness cornerstone. The NRC is soliciting comments from the public on potential improvements in these areas, along with other areas of the ROP. Any comments received on SECY-19-0067 will be forwarded to the Commission for its consideration.

DATES: Comments should be filed no later than October 7, 2019. Comments received after this date will be considered, if it is practical to do so, but the Commission is able to ensure consideration only for comments received on or before this date.

ADDRESSES: You may submit comments by any of the following methods:

• Federal Rulemaking website: Go to https://www.regulations.gov/ and search for Docket ID NRC-2019-0155. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Russell Gibbs, Office of Nuclear Reactor Regulation, U.S. Nuclear Regulatory Commission, Washington, DC 20555-0001; telephone: 301-415-8578, email: Russell.Gibbs@nrc.gov.

SUPPLEMENTARY INFORMATION:

I. Obtaining Information and Submitting Comments

A. Obtaining Information

Please refer to docket ID NRC-2019-0155 when contacting the NRC about the availability of information for this action. You may obtain publicly-available information related to this action by any of the following methods:

• Federal Rulemaking Website: Go to https://www.regulations.gov/ and search for docket ID NRC-2019-0155.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

• ROP Enhancement Website: Go to https://www.nrc.gov/reactors/operating/oversight/rop-enhancement.html.

B. Submitting Comments

Please include ROP Enhancement and docket ID NRC-2019-0155 in your comment submission.

The NRC cautions you not to include identifying or contact information that you do not want to be publicly disclosed in your comment submission. The NRC will enter the comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The ROP is the program that provides oversight and assessment of operating U.S. nuclear power plants. In 2018, the NRC staff solicited input from both NRC staff and external stakeholders on ways to improve the ROP. The NRC held numerous public meetings to discuss the disposition of this stakeholder feedback, resulting in several staff recommendations for Commission approval, described in SECY-19-0067, “Recommendations for Enhancing the Reactor Oversight Process,” dated June 28, 2019 ADAMS Package Accession No. ML19070A036. Documents, presentations, and meeting summaries associated with the development of this paper are listed on the ROP Enhancement public web page.

As described in SECY-19-0067, the NRC staff completed a comprehensive review of every core safety inspection procedure to determine if current sample requirements and resource estimates were appropriate. Of the 16 reactor safety inspection procedures, the staff recommended reducing minimum sample sizes in five inspection procedures, increasing the minimum sample size in one inspection procedure, consolidating two different inspection procedures into one procedure, and revising the frequency of one inspection from biennial to triennial. The NRC staff also initially considered an industry recommendation to credit licensee self-assessments in lieu of some safety inspections; however, the NRC is no longer considering this recommendation.

The NRC is currently working on long-term recommendations to enhance the ROP in the following areas: The problem identification and resolution inspection program, the cross-cutting issues process, radiation protection inspection procedures, ISFSI inspections, and the SDP, particularly for the emergency preparedness cornerstone.

The NRC is soliciting public comment on these long-term ROP enhancement efforts, the broad range of ROP topics described in SECY-19-0067, and any other areas of the ROP that the staff should consider under this initiative. Specifically, the NRC staff is seeking public comment on the following questions:

1. What areas of the ROP are working well?

2. What areas of the ROP are not working well?

3. How can the NRC improve the ROP in the following areas: The problem identification and resolution inspection program, the cross-cutting issues process, radiation protection inspections, ISFSI inspections, and the SDP?

The public comment period is scheduled to close on October 7, 2019. Any comments received on SECY-19-0067 will be forwarded to the Commission for its consideration.

Dated at Rockville, Maryland, this 2nd day of August, 2019.
For the Nuclear Regulatory Commission.
Christopher G. Miller,
Director, Division of Inspection and Regional Support, Office of Nuclear Reactor Regulation.

[FR Doc. 2019-16876 Filed 8-6-19; 8:45 am]

BILLING CODE 7590-01-P